DEPARTMENT OF HOUSING AND URBAN DEVELOPMENT

[Docket No. FR-4950-C-21]

Notice of HUD's Fiscal Year (FY) 2005 Notice of Funding Availability Policy Requirements and General Section to SuperNOFA for HUD's Discretionary Grant Programs; Service Coordinators in Multifamily Housing Program NOFA; Competition Reopening Announcement

AGENCY: Office of the Assistant Secretary of Housing—Federal Housing Commissioner, HUD.

ACTION: Super Notice of Funding Availability (SuperNOFA) for HUD Discretionary Grant Programs; Service Coordinators in Multifamily Housing Program NOFA; competition reopening announcement.

SUMMARY: On March 21, 2005, HUD published its Fiscal Year (FY) 2005, Notice of Funding Availability (NOFA) Policy Requirements and General Section to the SuperNOFA for HUD's Discretionary Grant Programs. The Service Coordinators in Multifamily Housing Program NOFA competition, which was included in the SuperNOFA, closed on June 24, 2005. This document announces the reopening of the Service Coordinators in Multifamily Housing Program NOFA competition.

DATES: The new application submission date for the Service Coordinators in Multifamily Housing Program NOFA competition is September 6, 2005.

FOR FURTHER INFORMATION CONTACT: Carissa L. Janis, Housing Project Manager, Department of Housing and Urban Development, 451 Seventh Street, SW., Room 6146, Washington, DC 20410-7000; telephone 202-708-3000 (this is not a toll-free number). Persons with speech or hearing impairments may access this number via TTY by calling the toll-free Federal Information Relay Service at 800-877-8339.

SUPPLEMENTARY INFORMATION: On March 21, 2005 (70 FR 13575), HUD published its Notice of HUD's Fiscal Year (FY) 2005, Notice of Funding Availability (NOFA), Policy Requirements and General Section to the SuperNOFA for HUD's Discretionary Grant Programs. The Service Coordinators in Multifamily Housing Program, which was included in the SuperNOFA, made approximately $10 million available in HUD assistance. According to the SuperNOFA, the application submission date for the Service Coordinators in Multifamily Housing Program NOFA was June 24, 2005. On May 11, 2005 (70 FR 24835), HUD published additional guidance to the General Section, that included a link to Frequently Asked Questions, located at http://www.grants.gov/ForApplicants#. Frequently asked questions can also be found on the HUD Web site at http://www.hud.gov/offices/adm/grants/egrants/grantsgovfaqs.pdf.

HUD understands that many eligible applicants may have had difficulty submitting their applications. Therefore, in order to give all NOFA applicants sufficient time to submit completed applications, and ensure their Grants.gov registration is complete, this notice published in today's Federal Register reopens the Service Coordinators in Multifamily Housing Program NOFA competition. The new application submission date for the Service Coordinators in Multifamily Housing Program NOFA competition is September 6, 2005.

Applicability of SuperNOFA General Section and Service Coordinators in Multifamily Housing Program NOFA Requirements to Reopened Competition

Please note that the Service Coordinators in Multifamily Housing Program NOFA competition description, application submission information, and application review information were published in HUD's FY2005 SuperNOFA on March 21, 2005 (70 FR 13575). All requirements listed in the SuperNOFA General Section and in the Service Coordinators in Multifamily Housing Program NOFA are applicable to this reopened competition except for those requirements explicitly changed by this notice (such as the due date and requirement for electronic submission).

Submission Instructions

If you have already submitted an application electronically through Grants.gov and received a confirmation of successful receipt from Grants.gov, you do not need to resubmit another application. If you submitted a paper application, however, without first obtaining a waiver from the electronic submission requirement, you must resubmit your applications electronically or by paper submission. If an applicant decides to resubmit an application, the applicant must download a new application package and submit a complete new application. HUD will not accept partial amendments to applications that were previously submitted.

Applicants that have already submitted an application do not need to resubmit another application. However, if an applicant chooses to make any changes to an application that has already been submitted, it must download a new application from Grants.gov, complete the application, and resubmit by the new deadline date. HUD will review the most recent application and disregard any previously submitted application.

Applicants are encouraged to complete their registration and submit their electronic applications through Grants.gov as described in the SuperNOFA. In addition, for this FY2005 reopened funding opportunity, an applicant may submit a paper application without requesting a waiver from this requirement. HUD does not intend to accept paper applications in the future without a waiver. Applicants that choose to submit a paper application must submit an original and two copies by mail or permitted delivery service to the appropriate HUD Multifamily (MF) Hub or Program Center office identified on HUD's Web site at http://www.hud.gov/offices/adm/grants/nofa05/scmhfldofflist.doc. Please do not use the field office list provided in the General Section of the SuperNOFA, published March 21, 2005 (70 FR 13575).

As described in section IV.F.5.b of the General Section, applicants submitting a paper application must use the United States Postal Service (USPS) to submit its application to HUD. Applicants must take their application to a post office to get a receipt of mailing that provides the date and time the package was submitted to the USPS. USPS rules now require that large packages must be brought to a postal facility for mailing. In many areas, the USPS has made a practice of returning to the sender, large packages that have been dropped in a mail collection box. Paper copy applications submitted to the USPS by the submission date and time and received by HUD no later than 15 days after the established submission date will receive funding consideration. If the USPS does not have a receipt with a digital time stamp, HUD will accept a receipt showing USPS Form 3817, Certificate of Mailing with a dated postmark. The proof of submission receipt provided by the Postal Service must show receipt no later than the application submission deadline. Applicants whose applications are determined to be late, who cannot furnish HUD with a receipt from the USPS that verifies the package was submitted to the USPS prior to the submission due date and time will not receive funding consideration. Applicants may use any type of mail service provided by the USPS to have their application package delivered to HUD in time to meet the submission requirements.

HUD will not accept hand delivery of applications.

Dated: July 29, 2005.
Frank L. Davis,
General Deputy Assistant Secretary for Housing—Federal Housing Commissioner.

[FR Doc. E5-4197 Filed 8-4-05; 8:45 am]

BILLING CODE 4210-27-P